DEPARTMENT OF LABOR

Office of the Secretary

Agency Information Collection Activities; Submission for OMB Review; Comment Request; New Collection; National Evaluation of Round 4 of the Trade Adjustment Assistance Community College Career Training (TAACCCT) Grants Program

AGENCY: Office of the Assistant Secretary for Policy, Chief Evaluation Office, Department of Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed Information Collection Request can be obtained by contacting the office listed below in the addressee section of this notice.

DATES: Written comments must be submitted to the office listed in the addressee section below on or before August 22, 2016.

ADDRESSES: You may submit comments by either one of the following methods:

Email: ChiefEvaluationOffice@dol.gov;

Mail or Courier: Molly Irwin and Janet Javar, Chief Evaluation Office, U.S. Department of Labor, Room S-2312, 200 Constitution Avenue NW., Washington, DC 20210.

Instructions: Please submit one copy of your comments by only one method. All submissions received must include the agency name and OMB Control Number identified below for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Molly Irwin and Janet Javar by email at ChiefEvaluationOffice@dol.gov.

SUPPLEMENTARY INFORMATION:

I. Background: The fourth round of the Trade Adjustment Assistance Community College Career Training (TAACCCT) grants program continues to provide community colleges and other eligible institutions of higher education with funds to expand and improve their ability to deliver education and career training programs that can be completed in two years or less and are suited for workers who are eligible for training under the Trade Adjustment Assistance for Workers program and other adults in need of new or upgraded skills. The evaluation of Round 4 funded by the Department of Labor will include an outcomes study, an implementation analysis, and a study of employer relationships.

This Federal Register Notice provides the opportunity to comment on a proposed new information collection activity for the TAACCCT Round 4 National Evaluation: (1) Collecting updated participant contact information, (2) conducting a follow-up survey of participants enrolled in programs in the Round 4 grantees selected for the outcomes study, (3) surveying staff in all colleges that are part of a Round 4 grant, and (4) interviewing staff from employers that have partnered with Round 4 grantees.

The purposes of the outcomes study are to capture participants' training experiences while in their programs, receipt of job search assistance as they near program completion, and employment and wage outcomes upon program exit and, for shorter programs, several months thereafter. The employer study will seek to understand how DOL can encourage the workforce system to build productive and sustainable employer relationships through Workforce Innovation and Opportunity Act implementation and its grants programs.

II. Desired Focus of Comments: Currently, the Department of Labor is soliciting comments concerning the above data collection for the national evaluation of Round 4 of the TAACCCT grants program. Comments are requested to:

* Evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the information collection on those who are to respond, including the use of appropriate automated, electronic, mechanical, or other technological collection techniques or other forms of information technology, e.g., permitting electronic submissions of responses.

III. Current Actions: At this time, the Department of Labor is requesting clearance for data collection for the national evaluation of Round 4 of the TAACCCT grants program via collection of updated participant contact information, survey data on participants and colleges, and employer discussions.

Type of review: New information collection request.

OMB Control Number: 1205-0NEW.

Affected Public: Participants enrolled in selected TAACCCT grant programs; staff associated with implementing TAACCCT grant programs, employers working with TAACCCT grantees.

Estimated Burden Hours
Form/activity | Total number of respondents | Annual number of respondents | Number of responses per respondent | Average time per response (hours) | Total burden hours | Annual burden hours
Participant Follow-up Survey | * 4,000 | 1,333 | 1 | .33 | 1,320 | 440
Updates to Participant Contact information | 5,000 | 1,667 | 4 | 0.083 | 1,660 | 553
College Survey | 272 | 91 | 1 | 1.5 | 408 | 137
Employer Interviews | 136 | 45 | 1 | 1.5 | 204 | 68
Totals | 9,408 | 4,704 |  |  | 3,592 | 1,197
* Assumes a sample of 5,000 with an 80 percent response rate.

Comments submitted in response to this request will be summarized and/or included in the request for Office of Management and Budget approval; they will also become a matter of public record.

Signed at Washington, DC, this 6th day of June 2016.
Sharon Block,
Principal Deputy Assistant Secretary for Policy, U.S. Department of Labor.

[FR Doc. 2016-14819 Filed 6-21-16; 8:45 am]

BILLING CODE 4510-HX-P